DEPARTMENT OF HEALTH AND HUMAN SERVICES

National Institutes of Health

Notice of Meeting: Chronic Fatigue Syndrome Coordinating Committee

In accordance with section 10(a) of the Federal Advisory Committee Act, as amended (5 U.S.C., Appendix 2), notice is hereby given of a meeting of the Chronic Fatigue Syndrome Coordinating Committee.

Name: Chronic Fatigue Syndrome Coordinating Committee

Time and Date: Wednesday, October 25, 2000, from 9 a.m. to 4:30 p.m.

Place: Hubert H. Humphrey Building, Room 800, 200 Independence Avenue, SW., Washington, DC 20201.

Status: Open to the public, limited only by the space available. The meeting room will accommodate approximately 100 people. Individuals who plan to attend and need special assistance, such as sign language interpretation or other reasonable accommodations, should notify the Contact Person listed below in advance of the meeting.

Notice: In the interest of security, the Department has instituted stringent procedures for entrance to the Hubert H. Humphrey Building by non-government employees. Thus, persons without a government identification card will need to provide a photo ID and must know the subject and room number of the meeting in order to be admitted into the building. Visitors must use the Independence Avenue entrance.

Purpose: The Committee is charged with providing advice to the Secretary, the Assistant Secretary for Health, and the Commissioner, Social Security Administration (SSA), to assure interagency coordination and communication regarding chronic fatigue syndrome (CFS) research and other related issues; facilitating increased DHHS and agency awareness of CFS research and educational needs; developing complementary research programs that minimize overlap; identifying opportunities for collaborative and/or coordinated efforts in research and education; and developing informed responses to constituency groups regarding DHHS and SSA efforts and progress.

Matters To Be Discussed: The meeting will include a discussion of the CFS State of the Science Conference held October 23-24, 2000; progress report from the Name Change Working Group; update on current Federal activities; and identification of areas for future focus for the CFSCC. Public comments will be received at the meeting on two topics of interest to the Committee: (1) Lack of access to social services and (2) insensitive medical care. Persons wishing to make oral comments on these topics either in person or via video should notify the contact person listed below no later than COB on October 17, 2000. Five minutes will be allotted for each statement; both printed and electronic copies are requested for the record.

Contact Person for More Information: Janice C. Ramsden, Executive Secretary, CFSCC, Office of the Principal Deputy Director, NIH, Building 1, Room 333, 1 Center Drive, MSC 0159, Bethesda, Maryland 20892-0159, e-mail jr52h@nih.gov or telephone 301-496-0959.

Dated: September 22, 2000.
LaVerne Stringfield,
Director, Office of Federal Advisory Committee Policy.

[FR Doc. 00-25163 Filed 9-29-00; 8:45 am]

BILLING CODE 4140-01-M